DEPARTMENT OF COMMERCE

International Trade Administration

[A-428-815, A-580-816]

Corrosion-Resistant Carbon Steel Flat Products From Germany and South Korea: Extension of Time Limits for Preliminary and Final Results of Third Antidumping Duty Sunset Reviews

AGENCY: Import Administration, International Trade Administration, Department of Commerce.

DATES: Effective Date: April 27, 2012.

FOR FURTHER INFORMATION CONTACT: Dennis McClure or James Terpstra at 202-482-5973 or 202-482-3965, respectively, AD/CVD Operations, Office 3, Import Administration, International Trade Administration, U.S. Department of Commerce, 14th Street and Constitution Avenue NW., Washington, DC 20230.

Background

On January 3, 2012, the Department of Commerce (the Department) initiated the third sunset reviews of the antidumping duty (AD) orders on corrosion-resistant carbon steel flat products (CORE) from Germany and South Korea (Korea), pursuant to section 751(c) of the Tariff Act of 1930, as amended (the Act). See Initiation of Five-Year (“Sunset”) Review, 77 FR 85 (January 3, 2012). Within the deadline specified in 19 CFR 351.218(d)(1)(i), the Department received notices of intent to participate, in both sunset reviews, on behalf of United States Steel Corporation, Nucor Corporation, and ArcelorMittal Steel USA (collectively, domestic interested parties). Each claimed interested party status under section 771(9)(C) of the Act, as a producer of domestic like product. The Department received timely substantive responses from the domestic interested parties. On February 22, 2012, after analyzing the substantive and rebuttal responses of interested parties, consistent with 19 CFR 351.218(e)(1)(ii)(A), the Department determined to conduct expedited sunset reviews of these AD orders on the basis that no respondent interested party submitted a substantive response in either review.

On February 14, 2012, the Department published in the Federal Register a notice entitled Antidumping Proceedings: Calculation of the Weighted-Average Dumping Margin and Assessment Rate in Certain Antidumping Duty Proceedings; Final Modification, 77 FR 8101 (February 14, 2012) (Final Modification for Reviews). In that notice, the Department announced the modification of its methodology regarding the calculation of the weighted-average dumping margins in certain segments of antidumping duty proceedings and stated that it would apply to all sunset reviews for which preliminary or final results were due more than 60 days after publication (i.e., April 16, 2012). On April 20, 2012, the Department reconsidered its determination to conduct expedited sunset reviews of these orders and determined to conduct full sunset reviews of the AD orders on CORE from Germany and Korea. See Memorandum to Barbara E. Tillman, Acting Deputy Assistant Secretary for Antidumping and Countervailing Duty Operations, from Melissa G. Skinner, Director, Antidumping and Countervailing Duty Operations, Office 3, regarding “Sunset Reviews of the Antidumping Duty Orders on Corrosion-Resistant Carbon Steel Flat Products from Germany and South Korea: Adequacy Redetermination Memorandum,” (April 20, 2012). The preliminary results of these full sunset reviews are currently due April 23, 2012.¹

¹ The due date actually falls on April 22, 2012, which is a weekend. Therefore, the deadline moves to the next business day which is April 23, 2012. See Notice of Clarification: Application of “Next Business Day” Rule for Administrative Determination Deadlines Pursuant to the Tariff Act of 1930, As Amended; 70 FR 24533 (May 10, 2008).

Extension of Time Limits

In accordance with section 751(c)(5)(B) of the Act, the Department may extend the period of time for making its determination by not more than 90 days, if it determines that the sunset review is extraordinarily complicated. We determine that these AD sunset reviews are extraordinarily complicated, pursuant to section 751(c)(5)(C) of the Act, because of a large number of complex issues in each review that the Department must analyze pursuant to the Final Modification for Reviews

The preliminary results of these full sunset reviews of the AD orders on CORE from Germany and Korea are currently scheduled for April 23, 2012, and the final results of these reviews are scheduled for August 30, 2012. The Department is extending the deadlines for both the preliminary and final results of these full sunset reviews. As a result, the Department intends to issue the preliminary results of these full sunset reviews of the AD orders on CORE from Germany and Korea no later than July 21, 2012, and the final results of the reviews no later than November 28, 2012. These dates are 90 days from the original scheduled dates of the preliminary and final results of these full sunset reviews.

This notice is issued in accordance with sections 751(c)(5)(B) and (C)(v) of the Act.

Dated: April 20, 2012.
Barbara E. Tillman,
Acting Deputy Assistant Secretary for Antidumping and Countervailing Duty Operations.

[FR Doc. 2012-10239 Filed 4-26-12; 8:45 am]

BILLING CODE 3510-DS-P